DEPARTMENT OF THE INTERIOR

Office of the Secretary

Privacy Act of 1974, as Amended; Addition of a New System of Records

AGENCY: Department of the Interior, Office of the Secretary.

ACTION: Proposed addition of a new system of records.

SUMMARY: The Department of the Interior (DOI) is issuing public notice of its intent to add a new Privacy Act system of records to its inventory of records systems subject to the Privacy Act of 1974 (5 U.S.C. 552a). The Privacy Act requires publication of a Federal Register notice of the existence and character of records systems maintained by the agency (5 U.S.C. 552 a e)(4)). The new system of records is “DOI-06” and is titled “The ‘America The Beautiful—The National Parks and Federal Recreational Lands Pass’ System” (hereinafter “the Pass System”).

DATES: 5 U.S.C. 552a(e)(11) requires that the public be provided a 30-day period in which to comment on the intended use of the information in the Pass System. The Office of Management and Budget, in its Circular A-130, requires an additional 10-day period (for a total of 40 days) in which to comment. Any persons interested in commenting on the proposed Pass System may do so by submitting comments in writing to the National Park Service Privacy Act Officer, U.S. Department of the Interior, 1849 C Street, NW., Washington, DC 20240, or by e-mail at diane_cooke@nps.gov. Comments received within 40 days of the date of publication in the Federal Register will be considered. The notice will be effective as proposed at the end of the comment period unless comments are received that would require substantial modifications to the Pass System. In that case, the Department will re-publish the notice.

Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Ben Simon, Office of Policy Analysis, at Benjamin_Simon@ios.doi.gov, MS-3530-MIB, 1849 C St., NW., Washington, DC 20240. Phone: 202-208-4916. Fax: 202-208-4867.

SUPPLEMENTARY INFORMATION: The Pass System will contain information about (a) organizations and individuals who purchase and/or receive the “America The Beautiful—The National Parks and Federal Recreational Lands Pass” (hereinafter “the Pass”), and (b) individuals who register to receive information about the Pass program and stewardship opportunities. The information collected will be that needed to process financial transactions to complete Pass purchase requests; fulfill Passes to individuals (“fulfill” and “fulfillment” refer to shipping and handling of Passes), Federal recreation sites, and third parties; and provide such associated customer services as sending anniversary renewal notices and providing information about the Pass program and Federal lands. Any entity authorized to sell and fulfill Passes on behalf of the government will be barred from selling, renting, licensing, sharing, or disclosing to third parties any personal information collected. Any such entity will also be barred from using any personal information collected for purposes other than to sell and fulfill Passes. Informational or promotional messages will be sent to individuals only if they have affirmatively requested such messages through an “opt-in” mechanism. A copy of the system notice for the Pass System, DOI-06, follows.

Diane M. Cooke,
National Park Service Privacy Act Officer, Department of the Interior.

INTERIOR/DOI-06

System name:

The “America The Beautiful—The National Parks and Federal Recreational Lands Pass” System—Interior, DOI-06.

Security classification:

Not classified.

System name:

Department of the Interior, The “America The Beautiful—The National Parks and Federal Recreational Lands Pass” System (hereinafter “the Pass System”).

System location:

Initially, records in this system pertaining to Pass sales and fulfillment will be located at the U.S. Geological Survey: U.S. Geological Survey Geospatial Information Office, Science Information & Education Branch, MS-306/Accounting Team, Box 25286, Denver Federal Center, Denver, CO 80225. Once a contractor(s) for Pass sales has been selected, these records will be located at a secure site (see “Safeguards” heading below) at a location managed by the contractor for the Department of the Interior responsible for these functions.

Categories of individuals covered by the system:

(1) Members of the public who (a) purchase the “America The Beautiful—The National Parks and Federal Recreational Lands Pass” (hereinafter, “the Pass”) via the Internet or a telephone call-center, (b) register online to receive information about the Pass program and stewardship opportunities, or (c) are awarded a Pass as a result of reaching the necessary threshold of hours volunteered at Federal recreation lands; (2) representatives of businesses and organizations who are third party vendors of the Pass; and (3) DOI and U.S. Department of Agriculture, Forest Service employees who serve as ordering contacts for the Pass for sale/distribution.

Categories of records in the system:

(1) Name of individual/organization and contact information, including home address, telephone number, and e-mail address.

(2) Category of Pass(es) being purchased or awarded (Annual Pass or Volunteer Pass).

(3) Financial information necessary to process Pass purchases, including credit card number, type of credit card (e.g., Visa or Mastercard), expiration date, and credit card security code.

(4) Date that Pass(es) were last purchased or awarded.

(5) Other information necessary to manage the Pass program (such as desire to receive further information when requested, contact method, and other preferences).

Authority for maintenance of the system:

Authorization is granted in the Federal Lands Recreation Enhancement Act of 2004 (REA), 16 U.S.C. 6804.

Routine uses of records maintained in the system including categories of users and the purposes of such uses:

The primary purposes of the Pass System are: (1) To process financial transactions to complete sales of Passes; (2) to fulfill Passes to individuals, Federal recreation sites, and third party vendors of the Pass; (3) for those who “opt-in” or register, to send updates, reminders (including remarketing the Pass when an individual's Pass is about to expire), and additional information on the Pass program and stewardship opportunities from the REA participating agencies and three Congressionally Authorized Foundations (the National Fish and Wildlife Foundation, the National Forest Foundation, and the National Park Foundation); and (4) for other necessary actions to manage the Pass program within the intent of the authorizing legislation.

Disclosures outside of the Department of the Interior may be made to:

(1) An expert, consultant, contractor (including employees of the contractor) of DOI that performs, on DOI's behalf, services requiring access to these records.

(2) The Department of Agriculture's Forest Service as necessary to implement the Pass program.

(3) The three Congressionally Authorized Foundations (the National Fish and Wildlife Foundation, the National Forest Foundation, and the National Park Foundation) about those individuals or entities who “opt-in” or register.

(4)(a) Any of the following entities or individuals when the circumstances set forth in (b) are met:

(i) The Department of Justice (DOJ);

(ii) A court, adjudicative, or other administrative body;

(iii) A party in litigation before a court or adjudicative or administrative body;

(iv) The Department or any component of the Department;

(v) Any Department employee acting in his or her official capacity; or

(vi) Any Departmental employee acting in his or her individual capacity if the Department or the DOJ has agreed to represent that employee or pay for private representation of the employee;

(b) When

(i) There is a proceeding in which one of the following is a party or has an interest:

(A) The Department or any component of the Department;

(B) Any Department employee acting in his or her official capacity;

(C) Any Departmental employee acting in his or her individual capacity if the Department or the DOJ has agreed to represent that employee or pay for private representation of the employee;

(D) The United States, when the DOJ determines that the Department is likely to be affected by the proceeding; and

(ii) The Department deems the disclosure to be:

(A) Relevant and necessary to the proceeding; and

(B) Compatible with the purposes for which the records were compiled.

(5) Appropriate Federal, State, local, or foreign agencies responsible for investigating or prosecuting the violation of or for enforcing or implementing a statute, rule, regulation, order, or license, when the Department becomes aware of a violation or potential violation of a statute, rule, regulation, order, or license.

(6) A congressional office in response to a written inquiry an individual covered by the Pass System has made to the congressional office about him or herself.

(7) A debt collection agency for the purpose of collecting outstanding debts owed to the Department for fees associated with processing FOIA/PA requests.

(8) Consumer reporting agencies to facilitate collection of debts owed the government.

(9) To disclose debtor information to the Internal Revenue Service, or to another Federal agency or its contractor solely to aggregate information for the Internal Revenue Service to collect debts owed to the Federal government through the offset of tax refunds.

(10) Other Federal agencies for the purpose of collecting debts owed to the Federal government by administrative or salary offset.

(11) Entities or individuals as otherwise required by law.

Disclosure to Consumer Reporting Agencies:

Pursuant to 5 U.S.C. 552a(b)(12), records can be disclosed to consumer reporting agencies as they are defined in the Fair Credit Reporting Act (15 U.S.C. 1681a(f)) or the Federal Claims Collection Act of 1966 (31 U.S.C. 3701(a)(3)).

Policies and practices for storing, retrieving, accessing, retaining, and disposing of records in the system:

Storage:

Records are stored, in paper form, in file folders within filing cabinets, and in electronic form, in computer systems.

Retrievability:

Information from the Pass System will be retrievable by (1) name of individual or organization, (2) address, (3) credit card information (for Pass purchasers only), and (4) other unique identifiers such as an e-mail address or a phone number.

Safeguards:

Access to records in the Pass System is limited to authorized personnel whose official duties require such access. Paper records are maintained in file cabinets in secured rooms that will be locked during non-business hours. Electronic records conform to Office of Management and Budget and Departmental guidelines reflecting the implementation of the E-Government Act of 2002, National Information Security Act Special Publication standards for Cyber Security and the Department of Interior regulations on safeguarding of Privacy Act information (43 CFR 2.51). A Privacy Impact Assessment was developed for the Pass System to ensure that Privacy Act requirements and safeguards are met. Database tables will be kept on separate file servers away from general file storage and other local area network usage. The database itself will be stored in a password-protected, client-server database. Electronic transmissions of records will be encrypted and password-protected. Such security measures will establish access levels for different types of users.

Retention and Disposal:

Records in the Pass System will be retained and disposed of in accordance with item 9105 of the Office of the Secretary's Consolidated Subject-Function Code Records Disposition Schedule, which is being drafted to cover the Pass System.

System manager and address:

America The Beautiful—The National Parks and Federal Recreational Lands Pass Program Manager, National Park Service, MS-7408-MIB, 1849 C St., NW., Washington, DC 20240.

Notification procedures:

Individuals requesting information as to the existence of records pertaining to themselves in the Pass System must write to the System Manager, at the address provided above. Their requests must be signed, and must include their full names and addresses. (See 43 CFR 2.60)

Record Access procedures:

Individuals requesting copies of their records from the Pass System must write to the System Manager at the address provided above. Their requests must be signed, and must include their full names and addresses. Their request envelopes and letters should be clearly marked “PRIVACY ACT REQUEST FOR ACCESS” (See 43 CFR 2.63).

Contesting Record Procedures:

Individuals requesting changes to their records must write to the System Manager at the address provided above. Their requests must be signed, and must include their full names and addresses, as well as an explanation of what information they believe should be changed, and why. (See 43 CFR 2.71)

Record source categories:

Information in the Pass System comes primarily from persons or parties purchasing or receiving Pass(es) or registering to receive additional information. Individuals provide information using electronic forms or over the telephone if using a telephone call-in center.

Exemptions claimed for the system:

None.

[FR Doc. E7-10726 Filed 6-1-07; 8:45 am]

BILLING CODE 4310-70-P